ENVIRONMENTAL PROTECTION AGENCY

[ER-FRL-9017-3]

Environmental Impact Statements; Notice of Availability

Responsible Agency: Office of Federal Activities, General Information (202) 564-7146 or http://www.epa.gov/compliance/nepa/.

Weekly receipt of Environmental Impact Statements

Filed 09/22/2014 Through 09/26/2014

Pursuant to 40 CFR 1506.9

Notice

Section 309(a) of the Clean Air Act requires that EPA make public its comments on EISs issued by other Federal agencies. EPA's comment letters on EISs are available at: http://www.epa.gov/compliance/nepa/eisdata.html.

EIS No. 20140282, Final EIS, NPS, TX, Big Thicket National Preserve Final General Management Plan, Review Period Ends: 11/03/2014, Contact: Doug Neighbor 409-951-6801.

EIS No. 20140283, Final EIS, NPS, TX, Lake Meredith National Recreation Area and Alibates Flint Quarries National Monument General Management Plan, Review Period Ends: 11/03/2014, Contact: Arlene Wimer 806-857-0309.

EIS No. 20140284, Draft Supplement, FHWA, VA, U.S. Route 460 Corridor, Comment Period Ends: 11/17/2014, Contact: Edward S. Sundra, 804-775-3357. The U.S. Department of Transportation's Federal Highway Administration, the U.S. Army Corps of Engineers, and the Virginia Department of Transportation are joint lead agencies for the above project.

EIS No. 20140285, Final EIS, USFS, CA, California Pacific Electricity Company 625 and 650 Electrical Line Upgrade Project, Review Period Ends: 11/03/2014, Contact: Robert Rodman 530-543-2613.

EIS No. 20140286, Draft EIS, USFS, CA, Jess Project, Klamath National Forest, Comment Period Ends: 11/17/2014, Contact: Angie Bell 530-842-6131.

EIS No. 20140287, Draft EIS, USFS, WA, Mt. Baker-Snoqualmie Invasive Plant Management, Comment Period Ends: 11/17/2014, Contact: Phyllis Reed 360-436-2332.

EIS No. 20140288, Draft EIS, BPA, OR, WA, Walla Walla Basin Spring Chinook Hatchery Program, Comment Period Ends: 11/24/2014, Contact: Donald L. Rose 503-230-3796.

Amended Notices

EIS No. 20140198, Draft EIS, NMFS, WA, Two Joint State and Tribal Resource Management Plans for Puget Sound Salmon and Steelhead Hatchery Programs, Comment Period Ends: 11/24/2014, Contact: Steve Leider 360-753-4650. Revision to the FR Notice Published 07/25/2014; Extending the Comment Period from 10/23/2014 to 11/24/2014.

EIS No. 20140236, Final EIS, USACE, WA, Lower Snake River Programmatic Sediment Management Plan, Review Period Ends: 09/22/2014, Contact: Sandra Shelin 509-527-7265. Revision to FR Notice Published 09/26/2014; Correction to the Review Period, which ended on 09/22/2014 and not 09/29/2014.

Dated: September 30, 2014.
Cliff Rader,
Director, NEPA Compliance Division, Office of Federal Activities.

[FR Doc. 2014-23639 Filed 10-2-14; 8:45 am]

BILLING CODE 6560-50-P